DEPARTMENT OF COMMERCE

International Trade Administration

[A-274-804]

Carbon and Certain Alloy Steel Wire Rod from Trinidad and Tobago: Notice of Initiation and Preliminary Results of Antidumping Duty Changed Circumstances Review

AGENCY: Import Administration, International Trade Administration, Department of Commerce.

SUMMARY: The Department of Commerce (“the Department”) has received information sufficient to warrant initiation of a changed circumstances review of the antidumping duty order of carbon and certain alloy steel wire rod (“steel wire rod”) from Trinidad and Tobago.¹ Based on this information, we preliminarily determine that Arcelor Mittal Point Lisas Limited (“AMPL”) is the successor-in-interest to Mittal Steel Point Lisas Limited (“MSPL”), formerly Caribbean Ispat Limited (“CIL”), a respondent in the less-than-fair-value investigation and that, as such, AMPL is entitled to receive the same antidumping duty treatment accorded MSPL.

¹ See Notice of Antidumping Duty Orders: Carbon and Certain Alloy Steel Wire Rod from Brazil, Indonesia, Mexico, Moldova, Trinidad and Tobago, and Ukraine, 67 FR 65945 (October 29, 2002) (“Antidumping Order”).

EFFECTIVE DATE: April 2, 2008.

FOR FURTHER INFORMATION CONTACT: Dennis McClure or Stephanie Moore, AD/CVD Operations, Office 3, Import Administration, International Trade Administration, U.S. Department of Commerce, 14th Street & Constitution Avenue, NW, Washington, DC 20230; telephone: (202) 482-5973 and (202) 482-3692, respectively.

SUPPLEMENTARY INFORMATION:

Background

On October 29, 2002, the Department published in the Federal Register an antidumping duty order on steel wire rod from Trinidad and Tobago. See Antidumping Order. The current scope of the merchandise subject to this order was published in the Carbon and Alloy Steel Wire Rod from Trinidad and Tobago: Final Results of Antidumping Duty Administrative Review,72 FR 62824 (November 7, 2007). One of the companies subject to the investigation was CIL. On July 6, 2005, the Department determined that MSPL was the successor-in-interest to CIL. See Notice of Final Result of Antidumping Duty Changed Circumstances Review: Carbon and Certain Alloy Steel Wire Rod from Trinidad and Tobago, 70 FR 38871 (July 6, 2005). The Department has completed administrative reviews covering (1) April 2002 through September 2003, (2) October 2003 through September 2004, (3) October 2004 through September 2005, and (4) October 2005 through September 2006, and is currently conducting an administrative review covering October 2006 through September 2007.²

² Notice of Final Results of Antidumping Duty Administrative Review: Carbon and Certain Alloy Steel Wire Rod from Trinidad and Tobago, 70 FR 12648 (March 15, 2005); Notice of Final Results of Antidumping Duty Administrative Review: Carbon and Certain Alloy Steel Wire Rod from Trinidad and Tobago, 70 FR 69512 (November 16, 2005); Carbon and Alloy Steel Wire Rod from Trinidad and Tobago: Final Results of Antidumping Duty Administrative Review,72 FR 9922 (March 6, 2007); Carbon and Alloy Steel Wire Rod from Trinidad and Tobago: Final Results of Antidumping Duty Administrative Review,72 FR 62824 (November 7, 2007); and Initiation of Antidumping and Countervailing Duty Administrative Reviews and Request for Revocation in Part, 72 FR 65938 (November 26, 2007), respectively.

On January 30, 2008, AMPL requested that the Department initiate and conduct an expedited changed circumstances review to determine that for purposes of the antidumping law, AMPL is the successor-in-interest to MSPL. See January 30, 2008, letter from AMPL to the Secretary of Commerce. AMPL claimed that counsel for petitioners³ in this proceeding indicated their consent to this request. On February 8, 2008, AMPL provided correspondence from counsel to the petitioners confirming petitioners' consent to this request.

³ Gerdau Ameristeel US Inc., Nucor Connecticut Inc., Keystone Consolidated Industries, Inc., Rocky Mountain Steel Mills, U.S.

Initiation and Preliminary Results of Changed Circumstances Review

Pursuant to section 751(b)(1) of the Tariff Act of 1930, as amended (“the Act”), and 19 CFR 351.216, the Department will conduct a changed circumstances review upon receipt of information concerning, or a request from an interested party for review of, an antidumping duty order which shows changed circumstances sufficient to warrant a review of the order. In this case, the Department finds that the information submitted by the respondent provides sufficient evidence of changed circumstances to warrant a review to determine whether AMPL is the successor-in-interest to MSPL. Thus, in accordance with section 751(b) of the Act, the Department is initiating a changed circumstances review to determine whether AMPL is the successor-in-interest to MSPL for purposes of determining antidumping duty liability with respect to imports of steel wire rod from Trinidad and Tobago.

Furthermore, 19 CFR 351.221(c)(3)(ii) permits the Department to combine the notice of initiation of a changed circumstances review and the notice of preliminary results in a single notice if the Department concludes that expedited action is warranted. In this case, we find that the evidence provided by AMPL is sufficient to preliminarily determine that its change of corporate name from MSLP to AMPL did not affect the company's operations.

In making a successor-in-interest determination, the Department examines several factors including, but not limited to, changes in: (1) management; (2) production facilities; (3) supplier relationships; and (4) customer base. See, e.g., Notice of Final Results of Changed Circumstances Antidumping Duty Administrative Review: Polychloroprene Rubber From Japan, 67 FR 58 (January 2, 2002); Brass Sheet and Strip from Canada: Final Results of Antidumping Duty Administrative Review, 57 FR 20460, 20462 (May 13, 1992). While no single factor or combination of factors will necessarily provide a dispositive indication of a successor-in-interest relationship, the Department will generally consider the new company to be the successor to the previous company if the new company's resulting operation is not materially dissimilar to that of its predecessor. See, e.g., Fresh and Chilled Atlantic Salmon from Norway; Final Results of Changed Circumstances Antidumping Duty Administrative Review, 64 FR 9979 (March 1, 1999); Industrial Phosphoric Acid from Israel; Final Results of Changed Circumstances Review, 59 FR 6944 (February 14, 1994). Thus, if the evidence demonstrates that, with respect to the production and sale of the subject merchandise, the new company operates as the same business entity as the former company, the Department will accord the new company the same antidumping treatment as its predecessor.

In accordance with 19 CFR 351.221(c)(3)(ii), we preliminarily determine that AMPL is the successor-in-interest to MSPL. In its January 30, 2008, submission AMPL provided evidence supporting its claim to be the successor-in-interest to MSPL. Documentation attached to AMPL's January 30, 2008, submission shows that the merger of Arcelor and Mittal Steel (MSPL's parent company) and the following name change to AMPL resulted in little or no change in management, production facility, supplier relationships, or customer base. This documentation consists of: (1) a press releases regarding the name change of Mittal Steel and Arcelor; (2) the merger proposal between Arcelor Mittal and Mittal Steel; (3) Form 425 filed with the Securities and Exchange Commission explaining the first step of the merger; (4) excerpts of ArcelorMittal's proxy statement concerning the merger of Mittal Steel; (5) a press release concerning details of the merger of AcelorMittal into Arcelor; (6) excerpts of ArcelorMittal's proxy statement concerning the merger into Arcelor; (7) a news article explaining the merger of ArcelorMittal into Arcelor; (8) an ArcelorMittal news release concerning the merger of ArcelorMittal into Arcelor; (9) a certificate of amendment concerning MSPL's name change to AMPL; (10) documentation certifying that AMPL maintains the same VAT tax ID number; (11) a letter from the bank confirming that AMPL maintains the same bank account MSPL had; (12) an organizational chart reflecting the organization of MSPL and AMPL; (13) certification from company officials at AMPL stating that neither management nor corporate structure of AMPL has changed because of the name change; (14) a letter from AMPL's lessor acknowledging that AMPL will occupy the same premises and continue MSPL's lease; (15) a list of suppliers before and after the name change; and (16) a list of customers identifying the same customers before and after the name change. The documentation described above demonstrates that there was little to no change in management structure, supplier relationships, production facilities, or customer base.

Therefore, we determine that expedited action is warranted and we preliminarily find that AMPL is the successor-in-interest to MSPL and, thus, should receive the same antidumping duty treatment with respect to steel wire rod from Trinidad and Tobago as the former MSPL. Because we have concluded that expedited action is warranted, we are combining these notices of initiation and preliminary results.

Public Comment

Any interested party may request a hearing within 30 days of publication of this notice. Any hearing, if requested, will be held no later than 44 days after the date of publication of this notice, or the first workday thereafter. Case briefs from interested parties may be submitted not later than 30 days after the date of publication of this notice. Rebuttal briefs, limited to the issues raised in those comments, may be filed not later than 37 days after the date of publication of this notice. All written comments shall be submitted in accordance with 19 CFR 351.303. Persons interested in attending the hearing, if one is requested, should contact the Department for the date and time of the hearing. The Department will publish the final results of this changed circumstances review, in accordance with 19 CFR 351.216(e), including the results of its analysis of issues raised in any written comments.

The current requirement for a cash deposit of estimated antidumping duties on all subject merchandise will continue unless and until it is modified pursuant to the final results of this changed circumstances review.

We are issuing and publishing these results and notice in accordance with sections 751(b)(1) and 777(i)(1) and (2) of the Act and 19 CFR 351.216.

Dated: March 27, 2008.
David M. Spooner,
Assistant Secretary for Import Administration.

[FR Doc. E8-6842 Filed 4-1-08; 8:45 am]

BILLING CODE 3510-DS-S